DEPARTMENT OF JUSTICE

Drug Enforcement Administration

21 CFR Part 1301

[Docket No. DEA-1362]

RIN 1117-AB77

Schedules of Controlled Substances: Rescheduling of Marijuana

AGENCY: Drug Enforcement Administration, Department of Justice.

ACTION: Notice of hearing on proposed rulemaking.

SUMMARY: This is notice that the Drug Enforcement Administration will hold a hearing with respect to the proposed rescheduling of marijuana into schedule III of the Controlled Substances Act. The proposed rescheduling of marijuana was initially proposed in a Notice of Proposed Rulemaking published in the Federal Register on May 21, 2024.

DATES: Interested persons desiring to participate in this hearing must provide written notice of desired participation as set out below, on or before September 30, 2024.

The hearing will commence on December 2, 2024, at 9 a.m. ET at 700 Army Navy Drive, Arlington, VA 22202. The hearing may be moved to a different place and may be continued from day to day or recessed to a later date without notice other than announcement thereof by the presiding officer at the hearing. 21 CFR 1316.53.

ADDRESSES: To ensure proper handling of notification, please reference “Docket No. DEA-1362” on all correspondence.

• Electronic notification should be sent to nprm@dea.gov.

• Paper notification sent via regular or express mail should be sent to Drug Enforcement Administration, Attn: Administrator, 8701 Morrissette Drive, Springfield, Virginia 22152.

FOR FURTHER INFORMATION CONTACT: Drug and Chemical Evaluation Section, Diversion Control Division, Drug Enforcement Administration; Telephone: (571) 362-3249. Email: nprm@dea.gov.

SUPPLEMENTARY INFORMATION:

Background

On May 21, 2024, the Department of Justice published a notice of proposed rulemaking (NPRM) to transfer marijuana from schedule I of the Controlled Substances Act (CSA) to schedule III of the CSA, consistent with the view of the Department of Health and Human Services (HHS) that marijuana has a currently accepted medical use, has a potential for abuse less than the drugs or other substances in schedules I and II, and that its abuse may lead to moderate or low physical dependence or high psychological dependence.¹ The CSA requires that such actions be made through formal rulemaking on the record after opportunity for a hearing. 21 U.S.C. 811(a).

¹ Schedules of Controlled Substances: Rescheduling of Marijuana, 89 FR 44597 (May 21, 2024).

The NPRM stated that if the transfer to schedule III is finalized, the regulatory controls applicable to schedule III controlled substances would apply, as appropriate, along with existing marijuana-specific requirements and any additional controls that might be implemented, including those that might be implemented to meet U.S. treaty obligations. If marijuana is transferred into schedule III, the manufacture, distribution, dispensing, and possession of marijuana would remain subject to the applicable criminal prohibitions of the CSA. Any drugs containing a substance within the CSA's definition of “marijuana” would also remain subject to the applicable prohibition in the Federal Food, Drug, and Cosmetic Act (FDCA).

The NPRM invited interested parties to submit requests for hearing on or before June 20, 2024. DEA received numerous requests for a hearing in response to the NPRM.

Upon review of the requests for a hearing, I am authorizing a hearing to be conducted in accordance with the Administrative Procedure Act (5 U.S.C. 551-559), the CSA (21 U.S.C. 811, et seq.) and the DEA regulations.

Hearing Notification

Pursuant to 21 U.S.C. 811(a) and 21 CFR 1308.41, DEA will convene a hearing on the NPRM. The hearing will commence on December 2, 2024, at 9 a.m. ET at the DEA Hearing Facility, 700 Army Navy Drive, Arlington, VA 22202. The hearing will be conducted pursuant to the provisions of 5 U.S.C. 556 and 557, and 21 CFR 1308.41-1308.45, and 1316.41-1316.68. DEA is committed to conducting a transparent proceeding. Regarding the methods of public access, DEA will provide updates on the DEA website, https://www.dea.gov.

In accordance with 21 U.S.C. 811 and 812, the purpose of the hearing is to “receiv[e] factual evidence and expert opinion regarding” whether marijuana should be transferred to schedule III of the list of controlled substances. 21 CFR 1308.42.

Every interested person (defined in 21 CFR 1300.01(b) as “any person adversely affected or aggrieved by any rule or proposed rule issuable” under 21 U.S.C. 811), who wishes to participate in the hearing shall file a written notice of intention to participate for review by the Agency. Electronic filing may be made as a PDF attachment via email to the Drug Enforcement Administration, Attn: Administrator at nprm@dea.gov, on or before 11:59 p.m. Eastern Time on September 30, 2024. If filing by mail, written notice must be filed with the Drug Enforcement Administration, Attn: Administrator, 8701 Morrissette Drive, Springfield, VA 22152, and must be postmarked on or before September 30, 2024. Paper requests that duplicate electronic submissions are not necessary and are discouraged.

Each notice of intention to participate must conform to 21 CFR 1308.44(b) and in the form prescribed in 21 CFR 1316.48. Among those requirements, such requests must:

(1) State with particularity the interest of the person in the proceeding;

(2) State with particularity the objections or issues concerning which the person desires to be heard; and

(3) State briefly the position of the person regarding the objections or issues.

Any person who has previously filed a request for hearing or to participate in a hearing need not file another request; the request for hearing is deemed to be a notice of appearance under 21 CFR 1308.44(b).

After the deadline to request to participate in the hearing, I will assess the notices submitted and make a determination of participants. Following that assessment, I will designate a presiding officer to preside over the hearing. The presiding officer's functions shall commence upon designation, as provided in 21 CFR 1316.52. The presiding officer will have all powers necessary to conduct a fair hearing, to take all necessary action to avoid delay, and to maintain order. Id. The presiding officer's authorities include the power to hold conferences to simplify or determine the issues in the hearing or to consider other matters that may aid in the expeditious disposition of the hearing; require parties to state their position in writing; sign and issue subpoenas to compel the production of documents and materials to the extent necessary to conduct the hearing; examine witnesses and direct witnesses to testify; receive, rule on, exclude, or limit evidence; rule on procedural items; and take any action permitted by the presiding officer under DEA's hearing procedures and the APA. Id.

Comments on or objections to the proposed rule submitted under 21 CFR 1308.43(g) will be offered as evidence at the hearing, but the presiding officer shall admit only evidence that is competent, relevant, material, and not unduly repetitive. 21 CFR 1316.59(a).

Anne Milgram,
Administrator.

[FR Doc. 2024-19370 Filed 8-26-24; 4:45 pm]

BILLING CODE 4410-09-P